DEPARTMENT OF LABOR

Employment and Training Administration

[TA-W-60,413]

Bendix Commercial Vehicle Systems (C.V.S.) LLC Air Compressor Products, Frankfort, KY; Notice of Termination of Investigation

Pursuant to Section 221 of the Trade Act of 1974, an investigation was initiated on November 14, 2006 in response to a petition filed by the Paper, Allied-Industrial, Chemical, & Energy Workers International Union, Local 5-5-32 on behalf of workers of Bendix C.V.S. LLC, Air Compressor Products, Frankfort, Kentucky.

The workers are covered by an active certification (TA-W-56,215), which expires on January 26, 2007. Consequently, further investigation in this case would serve no purpose, and the investigation has been terminated.

Dated: November 30, 2006.
Linda G. Poole,
Certifying Officer, Division of Trade Adjustment Assistance.

[FR Doc. E6-20836 Filed 12-7-06; 8:45 am]

BILLING CODE 4510-30-P